DEPARTMENT OF HEALTH AND HUMAN SERVICES

Centers for Disease Control and Prevention

[60 Day-14-14GT]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of a Trench Safety CD-ROM for Hispanic Immigrant Workers—New—National Institute for Occupational Safety and Health (NIOSH), Centers for Disease Control and Prevention (CDC).

Background and Brief Description

The mission of the National Institute for Occupational Safety and Health (NIOSH) is to promote safety and health at work for all people through research and prevention. In this capacity, NIOSH requests Office of Management and Budget approval for a three-year clearance to administer surveys to evaluate an interactive and a non-interactive form of the Spanish language computer-based training for trenching and excavation workers whose format and content have been culturally tailored for Latino immigrant workers.

The rapid growth of the Latino immigrant population in the United States has increased the demand for Spanish-language occupational safety and health training materials. Computer-based training (CBT) has been proven as an effective training tool and is increasingly being used for worksite training. It is also relatively inexpensive to produce, easy to distribute, flexible to implement and requires little communication between employer and their employees, therefore making it an attractive option when considering how to reach Spanish-speaking Latino workers with trench safety training.

CBT can generally be categorized as either interactive or non-interactive. The literature suggests that interactive CBT, where the user engages with the program by interacting with the mouse or keyboard, is more effective than non-interactive CBT (i.e. movie format) in the general population; however, some studies demonstrate that significant barriers to computer use exist among populations unfamiliar with computers, which suggests that a non-interactive training would be more effective for such workers. While the basic effectiveness of interactive CBT has been demonstrated, the interactive version has never been tested against a non-interactive version to determine which format is the most effective with Latino immigrant workers who are relatively unfamiliar with computers.

In order to better understand which format is more effective, NIOSH is developing two Spanish-language versions of the Trench Safety Awareness Training (TSAT) to test with the target audiences. Pre- and post-test, as well as follow-up tests will be administered to groups of workers 1 month and 3 months after training. Workers will be randomly assigned to receive training via either the interactive or non-interactive computer based program. NIOSH researchers expect to recruit 100 Hispanic immigrant construction workers.

The surveys administered for this study will assess trenching safety knowledge, attitudinal change, and self-reported trenching safety behavior intentions. Differences between pre- and post-training results for each group will be compared for an initial determination as to which version was more effective. Similar follow-up assessments will be conducted one month after training and three months after training in order to assess short term retention of training.

Participants for this data collection will be recruited with the assistance of contractors, such as a research and evaluation firm and a local grass roots not-for-profit organization, who have successfully performed similar tasks for NIOSH in the past. To overcome literacy or computer literacy barriers, the tests will be verbally administered by bilingual NIOSH staff or contractors. It is estimated that each evaluation will take approximately 30 minutes to complete for a total of 200 burden hours.

There is no cost to respondents other than their time.

Estimated Annualized Burden Hours
Respondents | Form name | Number of respondents | Number of responses per respondent | Average burden per response (in hours) | Total burden (in hours)
Construction Workers | Trench Safety Awareness Training Survey | 100 | 4 | 30/60 | 200
Total |  |  |  |  | 200

LeRoy Richardson,
Chief, Information Collection Review Office, Office of Scientific Integrity, Office of the Associate Director for Science, Office of the Director, Centers for Disease Control and Prevention.

[FR Doc. 2014-01111 Filed 1-21-14; 8:45 am]

BILLING CODE 4163-18-P